DEPARTMENT OF TRANSPORTATION

Federal Aviation Administration

14 CFR Part 39

[Docket No. FAA-2020-0466; Project Identifier MCAI-2020-00504-A; Amendment 39-21143; AD 2020-12-08]

RIN 2120-AA64

Airworthiness Directives; Embraer S.A. (Type Certificate Previously Held by Empresa Brasileira de Aeronáutica S.A.) Airplanes

AGENCY: Federal Aviation Administration (FAA), DOT.

ACTION: Final rule; request for comments.

SUMMARY: The FAA is superseding airworthiness directive (AD) 2011-20-01 for certain Empresa Brasileira de Aeronáutica S.A. (now Embraer S.A.) Model EMB-505 airplanes. AD 2011-20-01 required replacing the bolts that attach the balance mass weights to the elevator structure. This AD requires inspections of the mass-balance weights of the elevators, ailerons, and rudder (flight control surfaces) and their attachment parts and corrective actions if necessary, and revising the airworthiness limitation section of the existing maintenance manual or instructions for continued airworthiness to incorporate new airworthiness limitations. This AD also adds airplanes to the applicability. This AD was prompted by reports of corrosion in the mass-balance weights of the flight control surfaces, and a determination that new airworthiness limitations are necessary. The FAA is issuing this AD to address the unsafe condition on these products.

DATES: This AD is effective July 1, 2020.

The Director of the Federal Register approved the incorporation by reference of a certain publication listed in this AD as of July 1, 2020.

The FAA must receive any comments on this AD by July 31, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact Phenom Maintenance Support, Avenida Brigadeiro Faria Lima, 2170, P.O. Box 36/2, São José dos Campos, 12227-901, Brazil; phone: +55 12 3927 1000; email: phenom.reliability@embraer.com.br; website: https://www.embraer.com.br/en-US/Pages/home.aspx. You may view this service information at the FAA, Airworthiness Products Section, Operational Safety Branch, 901 Locust, Kansas City, Missouri 64106. For information on the availability of this material at the FAA, call 816-329-4148. It is also available on the internet at https://www.regulations.gov by searching for and locating Docket No. FAA-2020-0466.

Examining the AD Docket

You may examine the AD docket on the internet at https://www.regulations.gov by searching for and locating Docket No. FAA-2020-0466; or in person at Docket Operations between 9 a.m. and 5 p.m., Monday through Friday, except Federal holidays. The AD docket contains this AD, the mandatory continuing airworthiness information (MCAI), any comments received, and other information. The street address for Docket Operations is listed above. Comments will be available in the AD docket shortly after receipt.

FOR FURTHER INFORMATION CONTACT: Jim Rutherford, Aerospace Engineer, Small Airplane Standards Branch, FAA, 901 Locust, Room 301, Kansas City, Missouri 64106; phone: (816) 329-4165; fax: (816) 329-4090; email: jim.rutherford@faa.gov.

SUPPLEMENTARY INFORMATION:

Discussion

The FAA issued AD 2011-20-01, Amendment 39-16810 (76 FR 59240, September 26, 2011) (“AD 2011-20-01”), for certain serial-numbered Empresa Brasileira de Aeronáutica S.A. (now Embraer S.A.) Model EMB-505 airplanes. AD 2011-20-01 required replacing the bolts that attach the balance mass weights to the elevator structure. AD 2011-20-01 resulted from a determination that there was a possibility of freeplay between the mass-balance weight and the elevator structure. AD 2011-20-01 was prompted by MCAI issued by the Agência Nacional de Aviação Civil (ANAC), which is the aviation authority for Brazil. The FAA issued AD 2011-20-01 to address this condition which, if not corrected, could lead to elevator flutter and loss of airplane control.

Actions Since AD 2011-20-01 Was Issued

Since the FAA issued AD 2011-20-01, there have been reports of corrosion in the mass-balance weights of the flight control surfaces. The FAA has determined that new airworthiness limitations are necessary for all Embraer S.A. Model EMB-505 airplanes.

The ANAC has issued Brazilian Emergency AD No. 2020-01-01, dated January 9, 2020 (referred to after this as “the MCAI”), to address the unsafe condition on all Embraer S.A. Model EMB-505 airplanes. The MCAI states:

It has been found the occurrence of corrosion in the mass-balance weights of the control surfaces. The corrosion may lead to loss of mass or the detachment of the mass-balance weights, resulting in an unbalanced control surface, which, in conjunction with certain flight conditions, could lead to flutter and possible loss of airplane control.

You may obtain further information by examining the MCAI in the AD docket on the internet at https://www.regulations.gov by searching for and locating Docket No. FAA-2020-0466.

Related Service Information Under 1 CFR Part 51

The FAA reviewed Embraer Alert Service Bulletin SB505-55-A004, Revision 5, dated December 12, 2019. The service information applies to certain serial-numbered Model EMB-505 airplanes and contains procedures for inspecting the mass-balance weights of the elevators, ailerons, and rudders (flight control surfaces) and their respective attachment parts for corrosion and fragmentation, and corrective actions. Corrective actions include installation of a stainless steel mass-balance, replacement of the mass-balance, and replacement of attachment parts. This service information is reasonably available because the interested parties have access to it through their normal course of business or by the means identified in the ADDRESSES section.

Other Related Service Information

Embraer has issued Embraer Alert Service Bulletin SB505-55-A004, Revision 2, dated November 6, 2019; Embraer Alert Service Bulletin SB505-55-A004, Revision 3, dated November 13, 2019; Embraer Alert Service Bulletin SB505-55-A004, Revision 4, dated November 21, 2019. The actions specified in these service bulletins are the same as those specified in Embraer Alert Service Bulletin SB505-55-A004, Revision 5, dated December 12, 2019; however, revision 5 was issued to add serial-numbered airplanes to the applicability.

FAA's Determination

This product has been approved by the aviation authority of Brazil, and is approved for operation in the United States. Pursuant to our bilateral agreement with Brazil, it has notified the FAA of the unsafe condition described in the MCAI and service information referenced above. The FAA is issuing this AD because the agency evaluated all the relevant information provided by ANAC and determined the unsafe condition described previously exists and is likely to exist or develop in other products of the same type design.

AD Requirements

For certain serial-numbered airplanes, this AD requires accomplishing the actions specified in the service information described previously, except as specified in “Differences Between this AD and the Service Information.” This AD also requires sending certain inspection results to Embraer. For all Model EMB-505 airplanes, this AD requires revising the airworthiness limitations section of the existing maintenance manual or instructions for continued airworthiness to incorporate new airworthiness limitations.

Compliance with the airworthiness limitations section is required by 14 CFR 91.403(c). If an airplane has been previously modified, altered, or repaired in the areas addressed by this AD, and an operator is unable to accomplish the actions described in the revisions to comply with 14 CFR 91.403(c), the operator must request approval for an alternative method of compliance using the procedures in paragraph (n)(1) of this AD.

Differences Between This AD and the Service Information

Embraer Alert Service Bulletin SB505-55-A004, Revision 5, dated December 12, 2019, contains procedures for inspecting for the integrity of the mass-balance weights of the elevators, ailerons, and rudder (flight control surfaces) and their attachment parts. This AD does not include that requirement.

FAA's Justification and Determination of the Effective Date

An unsafe condition exists that requires the immediate adoption of this AD. The FAA has found that the risk to the flying public justifies waiving notice and comment prior to adoption of this rule because of reports of corrosion in the mass-balance weights of the flight control surfaces, which may lead to loss of mass or the detachment of the mass-balance weights, resulting in an unbalanced control surface, which, could lead to flutter and possible loss of airplane control. Additionally, the compliance time for the required action is shorter than the time necessary for the public to comment and for publication of the final rule. Therefore, the FAA finds good cause that notice and opportunity for prior public comment are impracticable. In addition, for the reasons stated above, the FAA finds that good cause exists for making this amendment effective in less than 30 days.

Comments Invited

This AD is a final rule that involves requirements affecting flight safety, and the FAA did not provide you with notice and an opportunity to provide your comments before it becomes effective. However, the FAA invites you to send any written data, views, or arguments about this final rule. Send your comments to an address listed under the ADDRESSES section. Include the docket number FAA-2020-0466 and project identifier MCAI-2020-00504-A at the beginning of your comments. The FAA specifically invites comments on the overall regulatory, economic, environmental, and energy aspects of this final rule. The FAA will consider all comments received by the closing date and may amend this final rule because of those comments.

The FAA will post all comments received, without change, to https://www.regulations.gov, including any personal information you provide. The FAA will also post a report summarizing each substantive verbal contact received about this final rule.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 376 airplanes of U.S. registry. The FAA estimates the following costs to comply with this AD:

Estimated Costs
Action | Labor cost | Parts cost | Cost per product | Cost on U.S. operators
Inspections | 9 work-hours × $85 per hour = $765 | $100 | $865 | $325,240
ALS revision | 1 work hour × 85 per hour = $85 | 0 | 85 | 31,960
Reporting | 1 work hour × 85 per hour = $85 | 0 | 85 | 31,960

The FAA estimates the following costs to do any necessary installations or replacements that would be required based on the results of the inspection. The FAA has no way of determining the number of aircraft that might need these actions:

On-Condition Costs
Action | Labor cost | Parts cost | Cost per product
Installation or replacement | Up to 129 work-hours × $85 per hour = Up to $10,965 | Up to $18,118 | Up to $29,083.

According to the manufacturer, some of the costs of this AD may be covered under warranty, thereby reducing the cost impact on affected individuals. The FAA does not control warranty coverage for affected individuals. As a result, the FAA has included all costs in this cost estimate.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-20-01, Amendment 39-16810 (76 FR 59240, September 26, 2011), and adding the following new AD:

2020-12-08 Embraer S.A. (Type Certificate Previously Held by Empresa Brasileira de Aeronáutica S.A.): Amendment 39-21143; Docket No. FAA-2020-0466; Project Identifier MCAI-2020-00504-A.

(a) Effective Date

This AD is effective July 1, 2020.

(b) Affected ADs

This AD replaces AD 2011-20-01, Amendment 39-16810 (76 FR 59240, September 26, 2011).

(c) Applicability

This AD applies to Embraer S.A. (type certificate previously held by Empresa Brasileira de Aeronáutica S.A.) Model EMB-505 airplanes, all serial numbers, certificated in any category.

(d) Subject

Joint Aircraft System Component (JASC) Code 5520, ELEVATOR STRUCTURE; 5540, RUDDER STRUCTURE; 5751, AILERONS.

(e) Unsafe Condition

This AD was prompted by reports of corrosion in the mass-balance weights of the flight control surfaces and a determination that new airworthiness limitations are necessary. The FAA is issuing this AD to address corrosion in the mass-balance weights of the flight control surfaces. The unsafe condition, if not addressed, could result in loss of mass or the detachment of the mass-balance weights, resulting in an unbalanced control surface, which could lead to flutter and loss of airplane control.

(f) Compliance

Comply with this AD within the compliance times specified, unless already done.

(g) Compliance Times for the Actions Required by Paragraph (h) of This AD

For airplanes with a serial number listed in Embraer Alert Service Bulletin SB505-55-A004, Revision 5, dated December 12, 2019 (“SB505-55-A004R5”): At the applicable compliance time specified in paragraph (g)(1), (2), or (3) of this AD, accomplish the actions required by paragraph (h) of this AD.

(1) For airplanes with a serial number listed in Group 1 of Embraer Alert SB505-55-A004R5: Within 3 calendar days or 5 hours time-in-service (TIS), whichever occurs first, after July 1, 2020 (the effective date of this AD).

(2) For airplanes with a serial number listed in Group 3 of SB505-55-A004R5: Within 30 calendar days or 50 hours TIS, whichever occurs first, after July 1, 2020 (the effective date of this AD).

(3) For airplanes with a serial number listed in Group 2 of SB505-55-A004R5: Within 60 calendar days or 100 hours TIS, whichever occurs first, after July 1, 2020 (the effective date of this AD).

(h) Required Actions

For airplanes with a serial number listed in SB505-55-A004R5, at the applicable time specified in paragraph (g) of this AD: Do the inspections identified in paragraphs (h)(1) through (6) of this AD and, before further flight, install or replace the mass-balance, as applicable, and replace the attachment parts, in accordance with Parts I through VI and Part VIII, as applicable, of the Accomplishment Instructions of SB505-55-A004R5, except where SB505-55-A004R5 tells you to submit information to Embraer, instead you must comply with paragraph (k) of this AD.

(1) Do an inspection of the elevator horn mass-balance weights and attachments parts for corrosion and fragmentation, and weigh each mass-balance.

(2) Do an inspection of the elevator internal mass-balance weights and attachments parts for corrosion and fragmentation and, weigh each mass-balance. You must remove and weigh the mass-balance weight even if there is no sign of corrosion or material fragmentation.

(3) Do an inspection of the elevator adjustable mass-balance weights and attachments parts for corrosion and fragmentation, and weigh each mass-balance.

(4) Do an inspection of the aileron mass-balance weights and attachments parts for corrosion and fragmentation and, weigh each mass-balance. You must remove and weigh the mass-balance weight even if there is no sign of corrosion or material fragmentation.

(5) Do an inspection of the rudder adjustable mass-balance weights and attachments parts for corrosion and fragmentation, and weigh each mass-balance.

(6) Do an inspection of the rudder internal mass-balance weights and attachments parts for corrosion and fragmentation and, weigh each mass-balance. You must remove and weigh the mass-balance weight even if there is no sign of corrosion or material fragmentation.

(i) Revision of the Airworthiness Limitations Section

Within 10 days after July 1, 2020 (the effective date of this AD), revise the airworthiness limitations section (ALS) of the existing maintenance manual or instructions for continued airworthiness to add the information in Table 1 to paragraph (i) of this AD and the initial compliance time information in Table 2 to paragraph (i) of this AD.

BILLING CODE 4910-13-P

BILLING CODE 4910-13-C

(j) No Alternative Actions or Intervals

After the ALS has been revised as required by paragraph (i) of this AD, no alternative inspection intervals may be approved, except as provided in paragraph (n)(1) of this AD.

(k) Reporting

For airplanes with a serial number listed in SB505-55-A004R5, at the applicable time specified in paragraph (k)(1) or (2) of this AD: For any inspection required by paragraph (h) of this AD, report findings to Embraer via email to contact.center@embraer.com. The report must include information specified in Appendix 1 of SB505-55-A004R5.

(1) If the inspection was done on or after July 1, 2020 (the effective date of this AD): Submit the report within 96 hours after the inspection.

(2) If the inspection was done before July 1, 2020 (the effective date of this AD): Submit the report within 5 days after July 1, 2020 (the effective date of this AD).

(l) Credit for Previous Actions

This paragraph provides credit for the actions required by paragraph (h) or (i) of this AD, if you performed those actions before July 1, 2020 (the effective date of this AD) using the service information specified in paragraphs (l)(1), (2), or (3) of this AD.

(1) Embraer Alert Service Bulletin SB505-55-A004, Revision 2, dated November 6, 2019.

(2) Embraer Alert Service Bulletin SB505-55-A004, Revision 3, dated November 13, 2019.

(3) Embraer Alert Service Bulletin SB505-55-A004, Revision 4, dated November 21, 2019.

(m) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(n) Alternative Methods of Compliance (AMOCs)

(1) The Manager, Small Airplane Standards Branch, FAA, has the authority to approve AMOCs for this AD, if requested using the procedures found in 14 CFR 39.19. Send information to ATTN: Jim Rutherford, Aerospace Engineer, Small Airplane Standards Branch, FAA, 901 Locust, Room 301, Kansas City, Missouri 64106; phone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Before using any approved AMOC, notify your appropriate principal inspector, or lacking a principal inspector, the manager of the local flight standards district office/certificate holding district office.

(o) Related Information

(1) For more information about this AD, contact Jim Rutherford, Aerospace Engineer, Small Airplane Standards Branch, FAA, 901 Locust, Room 301, Kansas City, Missouri 64106; phone: (816) 329-4165; fax: (816) 329-4090; email: jim.rutherford@faa.gov.

(2) Refer to Mandatory Continuing Airworthiness Information (MCAI) Brazilian Emergency AD No. 2020-01-01, dated January 9, 2020, for more information. You may examine the MCAI in the AD docket on the internet at https://www.regulations.gov by searching for and locating it in Docket No. FAA-2020-0466.

(p) Material Incorporated by Reference

(1) The Director of the Federal Register approved the incorporation by reference of the service information listed in this paragraph under 5 U.S.C. 552(a) and 1 CFR part 51.

(2) You must use this service information as applicable to do the actions required by this AD, unless the AD specifies otherwise.

(i) Embraer Alert Service Bulletin SB505-55-A004, Revision 5, dated December 12, 2019.

(ii) [Reserved]

(3) For Embraer service information identified in this AD, contact Phenom Maintenance Support, Avenida Brigadeiro Faria Lima, 2170, P.O. Box 36/2, São José dos Campos, 12227-901, Brazil; phone: +55 12 3927 1000; email: phenom.reliability@embraer.com.br; website: https://www.embraer.com.br/en-US/Pages/home.aspx.

(4) You may view this service information at the FAA, Airworthiness Products Section, Operational Safety Branch, 901 Locust, Kansas City, Missouri 64106. For information on the availability of this material at the FAA, call 816-329-4148.

(5) You may view this service information at the National Archives and Records Administration (NARA). For information on the availability of this material at NARA, email: fedreg.legal@nara.gov, or go to: https://www.archives.gov/federal-register/cfr/ibr-locations.html.

Issued on June 9, 2020.
Lance T. Gant,
Director, Compliance & Airworthiness Division, Aircraft Certification Service.

[FR Doc. 2020-12880 Filed 6-15-20; 8:45 am]

BILLING CODE 4910-13-P